DEPARTMENT OF HEALTH AND HUMAN SERVICES

Centers for Disease Control and Prevention

[60-Day-13-13PV]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to Kimberly S. Lane, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

“Study to Explore Distribution, Reach, and Influence of Educational Children's Book Amazing Me. It's Busy Being 3! in Pediatric Office Settings”—NEW—National Center on Birth Defects and Developmental Disabilities (NCBDDD), Centers for Disease Control and Prevention (CDC).

Background and Brief Description

Developmental disabilities have reached epidemic proportions in the U.S., with approximately 17 percent of children experiencing developmental delays. Impairment in physical, learning, language, or behavior areas can have a lifetime impact on everyday activities of life for a child and into adulthood. Research has shown that parents can be reliable sources of information about their children's development. Several studies have found that parents' concerns about their children's development are generally valid and predictive of developmental delays. These studies suggest that efforts to raise parental awareness of developmental milestones can increase the likelihood that children with developmental disabilities are identified early and connected with appropriate services and support.

Using a children's picture book format, CDC developed Amazing Me: It's Busy Being 3! to increase awareness of developmental milestones among parents of 3-year-olds and actively engage them in the monitoring of their child's development. CDC partnered with Lysol and Reach Out and Read (ROR), a non-profit organization that promotes early literacy among low-income families by distributing books in pediatric exam rooms, to disseminate copies of Amazing Me to parents. In spring 2012, 250 of ROR's largest pediatric clinics each received 300 copies of Amazing Me for distribution to parents of 3-year-old children during well-child visits. Distribution of Amazing Me through ROR practices was used as a vehicle to reach those at higher risk for developmental delays and disabilities: children insured by Medicaid and children from families with low incomes.

Preliminary data gathered from a web survey of ROR clinical staff indicates that clinical staff are not only receptive to but supportive of the Amazing Me book. However, the web survey of ROR clinical staff does not provide information from the book's target audience—parents. If CDC wishes to expand book distribution beyond ROR clinical settings, it will be important to gather data on parents' experiences receiving the Amazing Me book as part of a pediatric visit, and what kind of influence, if any, the book has had on their knowledge, attitudes, and beliefs about developmental milestones.

To this end, CDC will identify and recruit 3 ROR pediatric practices and 3 non-ROR practices in the greater Atlanta, Georgia and greater Washington, DC areas to distribute copies of Amazing Me to parents/guardians of 3-year-olds, soon to be 3-year-olds, or recently turned 4-year-olds attending the selected practices. The study will gather feedback from parents/guardians about (1) their experiences receiving the book as part of a pediatric visit, and (2) the influence of the book on their awareness, attitudes, and self-efficacy regarding monitoring developmental milestones. Data will be gathered through a web survey of 900 parents/guardians who have received a copy of the Amazing Me book from participating ROR and non-ROR practices. Parents/guardians will access the web survey by logging onto a URL address provided on a sticker affixed to the inside cover of each Amazing Me book. We estimate that we will screen 900 parents/guardians in order to recruit 900 respondents for the web survey.

CDC will also conduct six follow-up focus groups with survey respondents to gather more in-depth information from parents about their experiences reading the Amazing Me book at home with their children and assessing their child's development using the book. We estimate that we will screen 60 parents/guardians to recruit 54 participants for the focus groups. These six focus groups will be conducted in greater Atlanta, Georgia and greater Washington, DC.

Findings from the parent web survey and focus groups will help CDC to determine if a children's book is an effective channel for reaching parents, whether more books like Amazing Me for other age groups should be developed, and if the ROR book distribution model is an effective means to reach low-income and at-risk families.

This request is submitted to obtain Office of Management and Budget (OMB) clearance for two years. The estimated annualized burden hours for this data collection activity are 139. There are no costs to the respondents other than their time.

Estimated Annualized Burden Hours
Type of respondent | Form name | Number of respondents | Number of responses per respondent | Average burden per response (in hours) | Total burden hours
Web Survey
Parents/Guardians | Web Screener and Survey | 900 | 1 | 4/60 | 60
Parents/Guardians | Follow-up Contact Survey | 900 | 1 | 1/60 | 15
Focus Groups
Parents/Guardians | Screener | 60 | 1 | 5/60 | 5
Parents/Guardians | Informed Consent | 54 | 1 | 5/60 | 5
Parents/Guardians | Focus Group Moderator's Guide | 54 | 1 | 1 | 54
Total |  |  |  |  | 139

Dated: March 28, 2013.
Ron A. Otten,
Director, Office of Scientific Integrity, Office of the Associate Director for Science, Office of the Director, Centers for Disease Control and Prevention.

[FR Doc. 2013-07744 Filed 4-2-13; 8:45 am]

BILLING CODE 4163-18-P